DEPARTMENT OF ENERGY

Federal Energy Regulatory Commission

Combined Notice of Filings #1

Take notice that the Commission received the following electric rate filings:

Docket Numbers: ER17-801-008.

Applicants: Constellation Power Source Generation, LLC.

Description: Compliance filing: Informational Filing Regarding Notch Cliff Units 5-8 Retirements to be effective N/A.

Filed Date: 11/27/19.

Accession Number: 20191127-5161.

Comments Due: 5 p.m. ET 12/18/19.

Docket Numbers: ER20-491-000.

Applicants: Lake Lynn Generation, LLC.

Description: § 205(d) Rate Filing: Revised Reactive Service Tariff to be effective 1/1/2020.

Filed Date: 11/29/19.

Accession Number: 20191129-5001.

Comments Due: 5 p.m. ET 12/20/19.

Docket Numbers: ER20-492-000.

Applicants: York Haven Power Company, LLC.

Description: § 205(d) Rate Filing: Revised Reactive Service Tariff to be effective 1/1/2020.

Filed Date: 11/29/19.

Accession Number: 20191129-5003.

Comments Due: 5 p.m. ET 12/20/19.

Docket Numbers: ER20-493-000.

Applicants: New England Power Pool Participants Committee.

Description: § 205(d) Rate Filing: Dec 2019 Membership Filing to be effective 12/1/2019.

Filed Date: 11/29/19.

Accession Number: 20191129-5019.

Comments Due: 5 p.m. ET 12/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2019.
Kimberly D. Bose,
Secretary.

[FR Doc. 2019-26256 Filed 12-4-19; 8:45 am]

BILLING CODE 6717-01-P